DEPARTMENT OF STATE

[Public Notice 4769]

Bureau of Political-Military Affairs; Rescission of Debarment and Reinstatement of Eligibility To Apply for Export/Retransfer Authorizations Pursuant to Section 38(g)(4) of the Arms Export Control Act for Fuchs Electronics (Pty) Ltd

AGENCY: Department of State.

ACTION: Notice.

SUMMARY: Notice is hereby given that the Department of State has fully rescinded the statutory debarment against Fuchs Electronics (Pty) Ltd. (Fuchs), the Fuchs Electronics Division of Reunert Limited, and any divisions, subsidiaries, associated companies, affiliated persons, and successor entities pursuant section 38(g)(4) of the Arms Export Control Act (AECA) (22 U.S.C. 2778) and section 127.11 of the International Traffic in Arms Regulations (ITAR) (22 CFR parts 120-130).

DATES: Effective July 14, 2004.

FOR FURTHER INFORMATION CONTACT: Robert W. Maggi, Managing Director, Directorate of Defense Trade Controls, Bureau of Political-Military Affairs, Department of State (202) 663-2700.

SUPPLEMENTARY INFORMATION: Section 38(g)(4) of the AECA and section 127.7 of the ITAR prohibit the issuance of export licenses or other approvals to a person, or any party to the export, who has been convicted of violating certain U.S. criminal statutes enumerated at section 38(g)(1)(A) of the AECA and section 120.27 of the ITAR. The term “person” means a natural person as well as a corporation, business association, partnership, society, trust, or any other entity, organization, or group, including governmental entities. The term “party to the export” means the president, the chief executive officer, and any other senior officers of the license applicant; and any consignee or end-user of any item to be exported.

The Department of State implemented a policy of denial against Fuchs on June 8, 1994, after an indictment returned in the U.S. District Court for the Eastern District of Pennsylvania charged Fuchs with violating and conspiring to violate the AECA (see 59 FR 33811, June 30, 1994).

Fuchs pleaded guilty on February 27, 1997, to violating the AECA. Pursuant to a Consent Agreement between Fuchs and the Department of State, and an Order signed by the Assistant Secretary for Political-Military Affairs, the Department of State statutorily debarred Fuchs, including the Fuchs Electronics Division of Reunert Limited effective February 27, 1997 (see 62 FR 13933, March 24, 1997).

A Federal Register notice was published on March 4, 1998 (63 FR 10672) which temporarily suspended the statutory debarment against Fuchs. The Consent Agreement explicitly provided that if the compliance programs or any other parts of the agreement were not fully adhered to, debarment could be re-imposed. The Agreement also stated that the company would establish an internal compliance program and would provide an amount of money equivalent to suspended civil fines to the South African Government to support the effective implementation of its national export control regime.

Section 38(g)(4) of the AECA permits rescission of debarment after consultation with the Secretary of the Treasury and after a thorough review of the circumstances surrounding the conviction and a finding that appropriate steps have been taken to mitigate any law enforcement concerns.

The Department of State has determined that Fuchs (Pty) Ltd has taken appropriate steps to address the causes of the violations and mitigate any law enforcement concerns. Therefore, in accordance with section 38(g)(4) of the AECA and section 127.11 of the ITAR, effective July 14, 2004, the debarment against Fuchs, including the Fuchs Electronics Division of Reunert Limited, is rescinded. The effect of this notice is that Fuchs, and any divisions, subsidiaries, associated companies, affiliated persons, and successor entities may participate without prejudice in the export or transfer of defense articles, related technical data, and defense services subject to section 38 of the AECA and the ITAR.

Dated: July 14, 2004.
Lincoln P. Bloomfield, Jr.,
Assistant Secretary, Bureau of Political-Military Affairs, Department of State.

[FR Doc. 04-16589 Filed 7-23-04; 8:45 am]

BILLING CODE 4710-25-P